DEPARTMENT OF JUSTICE

[AAG/A Order No. 276-2002]

Privacy Act of 1974: System of Records

Pursuant to the Privacy Act of 1974 (5 U.S.C. 552a), notice is hereby given that the Department of Justice, Foreign Terrorist Tracking Task Force (FTTTF), proposes to modify the system of records entitled “Flight Training Candidates File System, JUSTICE/FTTTF-001,” published on June 10, 2002 (67 FR 39839). The FTTTF is modifying this system of records to add routine uses.

In accordance with 5 U.S.C. 552a(e)(4) and (11), the public is given a 30-day period in which to comment on the proposed routine uses. The Office of Management and Budget (OMB), which has oversight responsibility under the Act, and certain Congressional committees, require a 40-day period in which to conclude review of the system. Therefore, please submit any comment by August 19, 2002. The public, OMB and the Congress are invited to submit any comments to Mary Cahill, Management Analyst, Management and Planning Staff, Justice Management Division, Department of Justice, Washington, DC 20530 (Room 1400, National Place Building).

In accordance with 5 U.S.C. 552a, the Department has provided a report to OMB and the Congress.

Dated: July 12, 2002.
Robert F. Diegelman,
Acting Assistant Attorney General for Administration.

JUSTICE/FTTTF-001

System Name: Flight Training Candidates File System, FTTTF-001

* * * * *

Routine Uses of Records Maintained in the System, Including Categories of Users and the Purpose of Such Uses:

Information may be disclosed from this system as follows:

A. To flight training providers and other entities or persons in order to verify information submitted by individual candidates, and to facilitate the necessary risk assessment.

B. To the United States Department of State or other federal entities concerned with visas or immigration matters for purposes of visa or status determinations and other risk warning and assessment programs administered by such Department or entities.

C. In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law.

D. In an appropriate proceeding before a court or administrative or regulatory body when records are determined by the Department of Justice to be arguably relevant to the proceeding.

E. To an actual or potential party to litigation or the party's authorized representative for the purpose of negotiation or discussion on such matters as settlement, plea bargaining, or in informal discovery proceedings.

F. To contractors, grantees, experts, consultants, students, and others performing or working on a contract, service, grant, cooperative agreement, or other assignment for the Federal Government, when necessary to accomplish an agency function related to this system of records.

G. To officials and employees of a federal agency or entity, including the White House, which requires information relevant to a decision concerning the hiring, appointment, or retention of an employee; the issuance of a security clearance; the execution of a security or suitability investigation; the classification of a job; or the issuance of a grant or benefit.

H. To federal, state, and local licensing agencies or associations which require information concerning the suitability or eligibility of an individual for a license or permit.

I. To a Member of Congress or staff acting on the Member's behalf when the Member or staff requests the information on behalf of, and at the request of, the individual who is the subject of the record.

J. To the news media and the public pursuant to 28 CFR § 50.2 unless it is determined that release of the specific information in the context of a particular case would constitute an unwarranted invasion of personal privacy.

K. To the General Services Administration and National Archives and Records Administration in records management inspections conducted under the authority of 44 U.S.C. §§ 2904 and 2906.

L. To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

M. To such recipients and under such circumstances and procedures as are mandated by federal statute or treaty.

* * * * *

[FR Doc. 02-18219 Filed 7-18-02; 8:45 am]

BILLING CODE 4410-FB-P